Title 3—

The President

Proclamation 8548 of August 26, 2010

Women's Equality Day, 2010

By the President of the United States of America

A Proclamation

Ninety years ago, on August 26, 1920, the ratification of the 19th Amendment to our Constitution was completed, guaranteeing women the right to vote, renewing our commitment to equality and justice, and marking a turning point in our Nation's history. As we celebrate this important milestone and the achievements and shattered ceilings of the past, we also recognize the inequalities that remain and our charge to overcome them.

In a letter to John Adams, who was then serving as a delegate to the First Continental Congress, Abigail Adams once implored her husband to “remember the ladies” in the “new code of laws” of our fledgling country. It has taken the collective efforts of daring and tenacious women over many generations to realize the principles and freedoms enshrined in our Constitution. Standing on the shoulders of these trailblazers, we pay tribute to the brave women who dot the pages of our history books, and to those who have quietly broken barriers in our workplaces, communities, and society.

We can see the remarkable fruits of past struggles and victories today. For nearly two centuries, America could only imagine a female justice sitting on the Supreme Court of the United States. Today, for the first time in our Nation's history, three women sit on the bench of the highest court of the land, and I am proud to be the first President to nominate two women to the Court. Women lead in boardrooms and in our Armed Forces, in classrooms and conference rooms, and in every sector of society. Their boundless determination has enabled today's young women to dream bigger as they see themselves reflected at the highest levels of business, communications, and public service—including in my Administration and Cabinet. If we continue to fight for our hopes and aspirations, there will be no limit to the possibilities for our daughters and granddaughters.

As we celebrate 90 years of progress on Women's Equality Day, we also recognize the realities of the present. Women comprise less than one-fifth of our Congress and account for a mere fraction of the chief executives at the helm of our biggest companies. Women hold only 27 percent of jobs in science and engineering, which are critical to our economic growth in a 21st-century economy. And, almost 50 years after the Equal Pay Act was enacted, American women still only earn 77 cents for every dollar men earn. This gap increases among minority women and those living with disabilities.

These disparities remind us that our work remains unfinished. My Administration remains committed to advancing women's equality in all areas of our society and around the world. I was proud to create the White House Council on Women and Girls to help ensure that American women and girls are treated fairly in all matters of public policy. I also appointed the first White House Advisor on Violence Against Women, whose leadership will guide my Administration in confronting violence and sexual assault against women. The Lilly Ledbetter Fair Pay Act, the first bill I signed as President, restored basic protections against pay discrimination for women, and to build upon that law, I support passage of the Paycheck Fairness Act. I have also established the National Equal Pay Enforcement Task Force to ensure equal pay laws are vigorously enforced throughout the country. Workplace flexibility is also important to women and families, and we will continue coordinating with Federal agencies to make quality child care more affordable, promote work policies that improve work-family balance, and advance the economic development and security of all women.

Fifteen years after the world gathered in Beijing for the Fourth World Conference on Women, far too many women around the world still lack access to basic education and economic opportunity, face gender-based violence, and cannot participate fully and equally in their societies. To help address this, I appointed the first-ever Ambassador at Large for Global Women's Issues to elevate the importance of women's empowerment in all aspects of our foreign policy. From Afghanistan to the Democratic Republic of the Congo, the United States will continue its commitment to the rights of women around the world.

Women's rights are ultimately human rights, and the march for equality will not end until full parity and equal opportunity are attained in every State and workplace across our Nation. It remains our responsibility to ensure that the principles of justice and equality apply to all Americans, regardless of gender, race, ethnicity, sexual orientation, disability, or socioeconomic status. If we stay true to our founding ideals and the example of those who insisted upon nothing less than full equality, we can and will perpetuate the line of progress that runs throughout our Nation's history for generations to come.

NOW, THEREFORE, I, BARACK OBAMA, President of the United States of America, by virtue of the authority vested in me by the Constitution and the laws of the United States, do hereby proclaim August 26, 2010, as Women's Equality Day. I call upon the people of the United States to celebrate the achievements of women and recommit themselves to the goal of true gender equality in this country.

IN WITNESS WHEREOF, I have hereunto set my hand this twenty-sixth day of August, in the year of our Lord two thousand ten, and of the Independence of the United States of America the two hundred and thirty-fifth.

[FR Doc. 2010-21904

Filed 8-30-10; 11:15 am]

Billing code 3195-W0-P